DEPARTMENT OF STATE

[Delegation of Authority No. 351]

Delegation of the Functions and Authorities of the Assistant Secretary for Near Eastern Affairs to A. Elizabeth Jones

By virtue of the authority vested in the Secretary of State by the laws of the United States, including the State Department Basic Authorities Act of 1956, as amended, I hereby delegate to A. Elizabeth Jones, to the extent authorized by law, all authorities vested in the Assistant Secretary of State for Near Eastern Affairs, including all authorities vested in the Secretary of State that have been or may be delegated or re-delegated to that Assistant Secretary. Any authorities covered by this delegation may also be exercised by the Secretary of State, the Deputy Secretary, the Deputy Secretary for Management and Resources, and the Under Secretary for Political Affairs.

This delegation of authority shall expire upon the entry upon duty of a subsequently-appointed Assistant Secretary for Near Eastern Affairs.

This delegation of authority shall be published in the Federal Register.

Dated: March 13, 2013.
John F. Kerry,
Secretary of State.

[FR Doc. 2013-07848 Filed 4-3-13; 8:45 am]

BILLING CODE 4710-31-P